PENSION BENEFIT GUARANTY CORPORATION

Purchase of Irrevocable Commitments Before Standard Termination

AGENCY: Pension Benefit Guaranty Corporation.

ACTION: Notice.

SUMMARY: PBGC is not taking further regulatory action or providing specific guidance on purchase of irrevocable commitments before standard termination at this time.

FOR FURTHER INFORMATION CONTACT: Catherine B. Klion, Manager, or Grace Kraemer, Attorney, Regulatory and Policy Division, Legislative and Regulatory Department, 1200 K Street, NW., Washington, DC 20005-4026, 202-326-4024. (TTY and TDD users may call the Federal relay service toll-free at 1-800-877-8339 and ask to be connected to 202-326-4024).

SUPPLEMENTARY INFORMATION: On November 23, 2009 (at 74 FR 61074), the Pension Benefit Guaranty Corporation (PBGC) published a request for public comment on purchase of irrevocable commitments before standard termination and in response received 10 comments. PBGC thanks the commenters for their thoughtful and informative responses. PBGC has decided not to take further regulatory action or provide specific guidance at this time. PBGC will continue monitoring industry practices to determine whether further regulatory action or specific guidance is needed in the future. PBGC will also continue to audit all plans that make a final distribution of plan assets before or without filing a standard termination notice and take enforcement action where appropriate.

Issued in Washington, DC this 22nd day of December, 2010.
Joshua Gotbaum,
Director, Pension Benefit Guaranty Corporation.

[FR Doc. 2010-32827 Filed 12-28-10; 8:45 am]

BILLING CODE 7709-01-P